DEPARTMENT OF COMMERCE

Foreign-Trade Zones Board

[B-69-2015]

Notification of Proposed Production Activity; Zale Delaware, Inc.; Subzone 39F; (Assembly of Jewelry) Irving, Texas

Zale Delaware, Inc. (Zale), operator of Subzone 39F, submitted a notification of proposed production activity to the FTZ Board for its facility in Irving, Texas. The notification conforming to the requirements of the regulations of the FTZ Board (15 CFR 400.22) was received on October 26, 2015.

The Zale facility is used for the distribution and assembly of jewelry and accessories. Pursuant to 15 CFR 400.14(b), FTZ activity would be limited to the specific foreign-status materials and components and specific finished products described in the submitted notification (as described below) and subsequently authorized by the FTZ Board.

Production under FTZ procedures could exempt Zale from customs duty payments on the foreign status components used in export production. On its domestic sales, Zale would be able to choose the duty rate during customs entry procedures that applies to finished diamond rings, diamond ear rings, necklaces and pendants (duty rate 5.5%) for the foreign status inputs noted below. Customs duties also could possibly be deferred or reduced on foreign status production equipment.

The components and materials sourced from abroad include: Cut diamonds, ring mounts, ear ring mounts, necklaces (rope and mixed link) and pendant mounts (duty rate ranges from duty-free to 5.8%).

Public comment is invited from interested parties. Submissions shall be addressed to the FTZ Board's Executive Secretary at the address below. The closing period for their receipt is December 14, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Kathleen Boyce at Kathleen.Boyce@trade.gov or (202) 482-1346.

Dated: October 28, 2015.
Andrew McGilvray,
Executive Secretary.

[FR Doc. 2015-28029 Filed 11-2-15; 8:45 am]

BILLING CODE 3510-DS-P